ENVIRONMENTAL PROTECTION AGENCY

[FRL-7082-1]

Clean Water Act Section 303(d): Availability of Total Maximum Daily Loads (TMDLs) and Determinations That TMDLs Are Not Needed

AGENCY: Environmental Protection Agency (EPA).

ACTION: Notice of availability

SUMMARY: This notice announces the availability for comment of the administrative record file for forty-five TMDLs and the calculations for these TMDLs prepared by EPA Region 6 for waters listed in the Mermentau and Vermilion/Teche river basins, under section 303(d) of the Clean Water Act (CWA). These TMDLs were completed in response to a court order dated October 1, 1999, in the lawsuit Sierra Club, et al. v. Clifford et al., No. 96-0527, (E.D. La.). Under this court order, EPA is required to prepare TMDLs when needed for waters on the Louisiana 1998 section 303(d) list by December 31, 2007. The court order also requires EPA to add or delete waters to the schedule as new data confirms that waters are or are not meeting water quality standards.

This notice also announces the availability for comment of EPA determinations that TMDLs are not needed for six waterbody/pollutant combinations in the Mermentau and Vermilion/Teche river basins because new data and information show that water quality standards are being met. This proposed action would result in the removal of six waterbody/pollutant combinations from the Louisiana 303(d) list.

DATES: Comments must be submitted in writing to EPA on or before November 14, 2001.

ADDRESSES: Comments on the forty-five TMDLs and the determinations that TMDLs are not needed for six waterbody/pollutant combinations should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs and the determinations that TMDLs are not needed are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. Discussion of the court's order may be found at 65 FR 54032 (September 6, 2000).

EPA Seeks Comments on Forty-five TMDLs

By this notice EPA is seeking comments on the following forty-five TMDLs for waters located within the Mermentau and Vermilion/Teche basins:

Subsegment | Waterbody name | Pollutant
050103 | Bayou Mallet | Ammonia, Nutrients, and Organic enrichment/low DO.
050402 | Lake Arthur and Lower Mermentau | Ammonia, Nutrients, and Organic enrichment/low DO.
050602 | Intracoastal Waterway | Organic enrichment/low DO.
050603 | Bayou Chene-includes Bayou Grand Marais | Organic enrichment/low DO.
050701 | Grand Lake | Nutrients, and Organic enrichment/low DO.
050702 | Intracoastal Waterway | Nutrients, and Organic enrichment/low DO.
050802 | Big Constance Lake and Associated Waterbodies (Estuarine) | Organic enrichment/low DO.
050901 | Mermentau River Basin Coastal Bays and Gulf Waters to State 3-mile limit | Nutrients, and Organic enrichment/low DO.
060207 | Bayou des Glaises Diversion Channel | Nutrients, and Organic enrichment/low DO.
060209 | Irish Ditch/Big Bayou-unnamed Ditch to Irish Ditch (Ditch) | Organic enrichment/low DO.
060210 | Bayou Carron | Nutrients, and Organic enrichment/low DO.
060211 | West Atchafalaya Borrow Pit Canal | Organic enrichment/low DO.
060212 | Chatlin Lake Canal and Bayou DuLac | Organic enrichment/low DO.
060601 | Charenton Canal | Nutrients, and Organic enrichment/low DO.
060701 | Tete Bayou | Nutrients, and Organic enrichment/low DO.
060703 | Bayou du Portage | Organic enrichment/low DO.
060803 | Vermilion River Cutoff | Nutrients, and Organic enrichment/low DO.
060901 | Bayou Petite Anse | Nutrients, and Organic enrichment/low DO.
060903 | Bayou Tigre | Nutrients, and Organic enrichment/low DO.
060904 | Vermilion River B890 Basin New Iberia Southern Drainage Canal | Nutrients, and Organic enrichment/low DO.
060907 | Franklin Canal | Nutrients, and Organic enrichment/low DO.
060908 | Spanish Lake | Organic enrichment/low DO.
060909 | Lake Peigneur | Nutrients, and Organic enrichment/low DO.
060911 | Vermilion-Teche River Basin-(Dugas Canal) | Nutrients, and Organic enrichment/low DO.
061001 | West Cote Blanche Bay | Organic enrichment/low DO.
061103 | Freshwater Bayou Canal | Nutrients, and Organic enrichment/low DO.

EPA Seeks Comments on Proposed Determinations That Six TMDLs for Waterbody/Pollutant Combinations Are Not Needed Due to Assesssment of New Data and Information That Shows They Are Meeting WQS

Subsegment | Waterbody name | Pollutant
050102 | Bayou Joe Marcel | Ammonia, Nutrients, and Organic enrichment/low DO.
060906 | Intracoastal Waterway | Nutrients.
061101 | Bayou Petite Anse | Nutrients.
060204 | Bayou Courtableau—origin to West Atchafalaya Borrow Pit Canal | Oil and Grease.

EPA requests that the public provide any water quality related data and information that may be relevant to the calculations for these forty-five TMDLs, or any other comments relevant to the six proposed determinations that TMDLs are not needed. EPA will review all data and information submitted during the public comment period and revise the TMDLs and determinations where appropriate. EPA will then forward the TMDLs to the Court and the Louisiana Department of Environmental Quality (LDEQ). LDEQ will incorporate the TMDLs into its current water quality management plan. EPA also will revise the Louisiana 303(d) list as appropriate.

Dated: October 4, 2001.
Jayne Fontenot,
Acting Director, Water Quality Protection Division, Region 6.

[FR Doc. 01-25738 Filed 10-12-01; 8:45 am]

BILLING CODE 6560-50-P